DEPARTMENT OF COMMERCE

National Oceanic and Atmospheric Administration

Federal Consistency Appeal by AES Sparrows Point LNG, LLC and Mid-Atlantic Express, L.L.C.

AGENCY: National Oceanic and Atmospheric Administration (NOAA), Department of Commerce (Commerce).

ACTION: Notice of closure—administrative appeal decision record.

SUMMARY: This announcement provides notice that the decision record has been closed for an administrative appeal filed with the Department of Commerce by AES Sparrows Point LNG, LLC and Mid-Atlantic Express, L.L.C. (collectively, AES).

DATES: The decision record for AES' administrative appeal was closed on April 14, 2008.

ADDRESSES: Materials from the appeal record are available at the Internet site http://www.ogc.doc.gov/czma.htm and at the Office of the General Counsel for Ocean Services, National Oceanic and Atmospheric Administration, U.S. Department of Commerce, 1305 East-West Highway, Silver Spring, MD 20910.

FOR FURTHER INFORMATION CONTACT: Odin Smith, Attorney-Advisor, Office of the Assistant General Counsel for Legislation and Regulation, Department of Commerce, via e-mail at osmith@doc.gov, or at (202) 482-4144.

SUPPLEMENTARY INFORMATION: On August 8, 2007, AES filed a notice of appeal with the Secretary of Commerce (Secretary) pursuant to section 307(c)(3)(A) of the Coastal Zone Management Act of 1972 (CZMA), as amended, 16 U.S.C. 1451 et seq., and the Department of Commerce's implementing regulations, 15 CFR part 930, subpart H. The appeal was taken from an objection by the Maryland Department of the Environment (State) to AES' consistency certification for U.S. Army Corps of Engineers and Federal Energy Regulatory Commission permits to construct and operate a liquefied natural gas (LNG) terminal and associated 88-mile natural gas pipeline. The certification indicates that the project is consistent with Maryland's coastal management program. The project would affect the natural resources or land and water uses of Maryland's coastal zone.

AES requested the Secretary to override the State's consistency objection on grounds the proposed project allegedly is consistent with the objectives of the CZMA, and necessary in the interest of national security. Decisions for CZMA administrative appeals are based on information contained in a decision record. Under the CZMA, the decision record must close no later than 220 days after notice of the appeal was first published in the Federal Register. 16 U.S.C. 1465. Consistent with this deadline, the AES appeal decision record was closed on April 14, 2008. No further information, briefs or comments will be considered in deciding this appeal.

The CZMA requires that a notice be published in the Federal Register indicating the date on which the decision record has been closed. 16 U.S.C. 1465(b)(2). A final decision of the AES appeal must be issued no later than 60 days after the date of the publication of this notice. 16 U.S.C. 1465(c)(1). The deadline may be extended by publishing (within the 60-day period) a subsequent notice explaining why a decision cannot be issued within that time frame. 16 U.S.C. 1465(c)(1). In this event, a final decision must be issued no later than 15 days after the date of publication of the subsequent notice. 16 U.S.C. 1465(c)(2).

Additional information about the AES appeal and the CZMA appeals process is available from the Department of Commerce CZMA appeals Web site http://www.ogc.doc.gov/czma.htm.

(Federal Domestic Assistance Catalog No. 11.419 Coastal Zone Management Program Assistance.)

Dated: April 9, 2008.
Joel La Bissonniere,
Assistant General Counsel for Ocean Services.

[FR Doc. E8-7904 Filed 4-11-08; 8:45 am]

BILLING CODE 3510-08-P